DEPARTMENT OF COMMERCE

[I.D. 080102A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: U.S. Fishermen Fishing in Russian Waters.

Form Number(s): None.

OMB Approval Number: 0648-0228.

Type of Request: Regular submission.

Burden Hours: 1.

Number of Respondents: 1.

Average Hours Per Response: 30 minutes.

Needs and Uses: U.S. fishermen who wish to fish in the Russian Federation Economic Zone may apply for a Russian permit by submitting application information to the National Marine Fisheries Service for transmittal to Russian authorities. Permit holders must provide information regarding their permits and must report when entering or leaving the U.S. Exclusive Economic Zone.

Affected Public: Business and other for-profit organizations.

Frequency: On occasion.

Respondent's Obligation: Mandatory.

OMB Desk Officer: David Rostker, (202) 395-3897.

Copies of the above information collection proposal can be obtained by calling or writing Madeleine Clayton, Departmental Paperwork Clearance Officer, (202) 482-3129, Department of Commerce, Room 6608, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: July 30, 2002.
Madeleine Clayton,
Departmental Paperwork Clearance Officer, Office of the Chief Information Officer.

[FR Doc. 02-19818 Filed 8-5-02; 8:45 am]

BILLING CODE 3510-22-S